INTERNATIONAL TRADE COMMISSION

[Investigation No. 731-TA-991 (Final) (Remand)]

Silicon Metal From Russia; Notice and Scheduling of Remand Proceeding

AGENCY: International Trade Commission.

ACTION: Notice.

SUMMARY: The United States International Trade Commission (Commission) gives notice of the court-ordered remand of its final antidumping duty investigation No. 731-TA-991 (Final) (Remand).

FOR FURTHER INFORMATION CONTACT: June B. Brown, Esq., Office of the General Counsel, telephone (202) 205-3042, or Diane Mazur, Office of Investigations, telephone (202) 205-3184, 500 E Street, SW., Washington, DC 20436, U.S. International Trade Commission. Hearing-impaired individuals are advised that information on this matter can be obtained by contacting the Commission's TDD terminal on (202) 205-1810. General information concerning the Commission may also be obtained by accessing its Internet server (http://www.usitc.gov).

SUPPLEMENTARY INFORMATION:

Reopening the Record

In March 2003, the Commission made a final affirmative determination in the referenced investigation. The determination was appealed to the U.S. Court of International Trade (CIT), which affirmed the Commission upon remand, and was then appealed to the U.S. Court of Appeals for the Federal Circuit, which vacated and remanded the Commission's determination. Bratsk Aluminum Smelter v. United States, 444 F.3d 1369 (Fed. Cir. 2006). On August 17, 2006, the CIT issued an order remanding the case to the Commission to comply with the Federal Circuit's decision in Bratsk. By order of September 22, 2006, the remand proceeding was stayed upon the Commission's motion. On December 22, 2006, the CIT issued an order lifting the stay and giving the Commission 90 days to issue its remand determination.

In order to assist it in making its determination on remand, the Commission is reopening the record on remand in this investigation to include additional information on the role of non-subject imports of silicon metal in the U.S. market during the original period of investigation. The record in this proceeding will encompass the material from the record of the original investigation and additional information placed by Commission staff on the record during this remand proceeding.

Participation in the Proceeding

Only those persons who were interested parties in the original administrative proceeding and are parties to the ongoing litigation (i.e., persons listed on the Commission Secretary's service list and parties to Bratsk Aluminum Smelter v. United States, Consol. Ct. No. 03-00200) may participate as interested parties in this remand proceeding.

Nature of the Remand Proceeding

On February 16, 2007, the Commission will make available to parties who are participating in the remand proceeding information that has been gathered by the Commission as part of this remand proceeding. These parties may file comments on or before February 27, 2007 on the legal issues raised in Bratsk with respect to non-subject imports and on the information on the record that is relevant to how the Commission addresses these issues in its remand determination. No additional new factual information may be included in such comments. Such comments shall not exceed 25 double-spaced pages.

All written submissions must conform with the provisions of section 201.8 of the Commission's rules; any submissions that contain business proprietary information (BPI) must also conform with the requirements of sections 201.6, 207.3, and 207.7 of the Commission's rules. The Commission's rules do not authorize filing submissions with the Secretary by facsimile or electronic means, except to the extent permitted by section 201.8 of the Commission's rules, as amended, 67 FR 68036 (November 8, 2002). Even where electronic filing of a document is permitted, certain documents must also be filed in paper form, as specified in II (C) of the Commission's Handbook on Electronic Filing Procedures, 67 FR 68168, 68173 (November 8, 2002). Each document filed by a party participating in the remand investigation must be served on all other parties who may participate in the remand investigation (as identified by either the public or BPI service list), and a certificate of service must be timely filed. The Secretary will not accept a document for filing without a certificate of service. Parties are also advised to consult the Commission's Rules of Practice and Procedure, part 201, subparts A through E (19 CFR part 201), and part 207, subpart A (19 CFR part 207), for provisions of general applicability concerning written submissions to the Commission.

Limited Disclosure of Business Proprietary Information (BPI) Under an Administrative Protective Order (APO) and BPI Service List

Information obtained during the remand investigation will be released to the referenced parties, as appropriate, under the administrative protective order (APO) in effect in the original investigation. A separate service list will be maintained by the Secretary for those parties authorized to receive BPI under the APO in this remand investigation.

Authority: This action is taken under the authority of the Tariff Act of 1930, title VII.

By order of the Commission.
Issued: January 4, 2007.
Marilyn R. Abbott,
Secretary to the Commission.

[FR Doc. E7-187 Filed 1-9-07; 8:45 am]

BILLING CODE 7020-02-P